NUCLEAR REGULATORY COMMISSION

[Docket No. 040-07982]

Notice of Issuance of License Amendment for Termination of License SUB-00971 for ATK Ordnance and Ground Systems, LLC Arden Hills, Minnesota

AGENCY: Nuclear Regulatory Commission.

ACTION: Notice of availability.

FOR FURTHER INFORMATION CONTACT: George M. McCann, Senior Health Physicist, Decommissioning Branch, Division of Nuclear Material Safety, Region III, U.S. Nuclear Regulatory Commission, 2443 Warrenville Road, Lisle, Illinois 60532; Telephone: (630) 829-9856; fax number: (630) 515-1259; e-mail: gmm@nrc.gov.

SUPPLEMENTARY INFORMATION:

I. Introduction

The Nuclear Regulatory Commission (NRC) is issuing a license amendment to terminate Source Material License No. SUB-00971 issued to ATK Ordnance and Ground Systems, LLC, (ATK) and to authorize for unrestricted use its former depleted uranium production facilities, located at the Twin Cities Army Ammunition Plant, Arden Hills, Minnesota. On October 25, 2001, the NRC amended ATK's license to include an NRC-approved decommissioning plan supported by an Environmental Assessment and a Finding of No Significant Impact. These documents addressed the impacts of ATK's request to decommission its former depleted uranium facilities, including final status survey plans and the licensee's intent to terminate Source Material License No. SUB-00971. The NRC published a Notice of the Agency's proposed action and opportunity to request a hearing in the Federal Register (63 FR 28015) on May 21, 1998.

In a letter dated June 2, 2004, ATK requested termination of its NRC radioactive source material license. The NRC staff documented its review of ATK's final status surveys in a December 13, 2004, Safety Evaluation Report. Based on its review, the staff concluded that all licensable radioactive material had been removed from the ATK facility and residual radioactive material attributable to licensed activities did not exceed NRC unrestricted release criteria cited in its decommissioning plan.

II. Safety Evaluation Report (SER) Summary

The purpose of the amendment is to terminate ATK's source material license and authorize for unrestricted release the licensee's former depleted uranium production facilities located at the Twin Cities Army Ammunition Plant, Arden Hills, Minnesota. The licensee started production of uranium munitions in 1976, and ceased production activities during 1988. The licensee conducted surveys of its former facilities and site and provided on June 18, 2004, information to the NRC to demonstrate that the site meets the licensee's termination criteria specified in its NRC-approved decommissioning plan.

The staff prepared the SER in support of the license amendment. Based on its review, the NRC staff has determined that the licensee's final status surveys are adequate to demonstrate compliance with radiological criteria for license termination, and that ATK has demonstrated that the former depleted uranium production site radiological conditions comply with the radiological criteria for license termination. The NRC staff has reviewed the proposed amendment and has determined that the proposed termination will have no adverse effect on the public health and safety or the environment.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: the ATK letter dated June 2, 2004 (Accession No. ML042870518); the licensee's letter dated June 18, 2004, with Safety and Ecology Corporation “Final Status Survey Report, Depleted Uranium Facilities, Twin Cities Army Ammunition Plant, New Brighton, Minnesota,” Project 1350, Revision 2, June 2004 (Accession No. ML042950257) attached, and the SER summarized above (Accession No. ML043560261). If you do not have access to ADAMS or if there are problems in accessing the documents located in ADAMS, contact the NRC Public Document Room (PDR) Reference staff at 1-800-397-4209, 301-415-4737, or by e-mail to pdr@nrc.gov.

Please note that on October 25, 2004, the NRC terminated public access to ADAMS and initiated an additional security review of publicly available documents to ensure that potentially sensitive information is removed from the ADAMS database accessible through the NRC's Web site. Interested members of the public may obtain copies of the referenced documents for review and/or copying by contacting the Public Document Room pending resumption of public access to ADAMS. The NRC Public Documents Room is located at NRC Headquarters in Rockville, MD, and can be contacted at (800) 397-4209 or (301) 415-4737 or pdr@nrc.gov.

These documents may also be viewed electronically on the public computers located at the NRC's PDR, O 1 F21, One White Flint North, 11555 Rockville Pike, Rockville, MD 20852. The PDR reproduction contractor will copy documents for a fee.

Dated at Lisle, Illinois, this 21st day of December 2004.
For the Nuclear Regulatory Commission.
Kenneth G. O'Brien,
Chief, Decommissioning Branch, Division of Nuclear Materials Safety, Region III.

[FR Doc. 04-28675 Filed 12-30-04; 8:45 am]

BILLING CODE 7590-01-P